FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 011325-042.

Title: Westbound Transpacific Stabilization Agreement.

Parties: American President Lines, Ltd./APL Co. Pte Ltd. (withdrawal from agreement effective September 1, 2012); COSCO Container Lines Company Limited; Evergreen Line Joint Service Agreement; Hanjin Shipping Co., Ltd.; Hapag-Lloyd AG; Hyundai Merchant Marine Co. Ltd.; Kawasaki Kisen Kaisha, Ltd.; Nippon Yusen Kaisha Line; Orient Overseas Container Line Limited; and Yangming Marine Transport Corp.

Filing Party: David F. Smith, Esq.; Cozen O'Connor; 627 I Street NW.; Suite 1100; Washington, DC 20006.

Synopsis: This amendment reflects the suspension of the agreement, effective May 1, 2013 through April 14, 2015.

Agreement No.: 011602-013.

Title: Grand Alliance Agreement II.

Parties: Hapag-Lloyd AG; Hapag-Lloyd USA LLC; Nippon Yusen Kaisha; Orient Overseas Container Line, Inc.; Orient Overseas Container Line Limited; and Orient Overseas Container Line (Europe) Limited.

Filing Party: David F. Smith, Esq.; Cozen O'Connor; 1627 I Street NW., Suite 1100; Washington, DC 20006.

Synopsis: The amendment would revise the agreement to reflect the fact that the parties have agreed to charter and rationalize vessel space among themselves and with other VOCCs in the trade pursuant to the parties' participation in the G6 Alliance Agreement.

Agreement No.: 012194-001.

Title: The G6 Alliance Agreement.

Parties: American President Lines, Ltd. and APL Co. Pte, Ltd. (Operating as one Party); Hapag-Lloyd AG; Hyundai Merchant Marine Co., Ltd.; Mitsui O.S.K. Lines, Ltd.; Nippon Yusen Kaisha; and Orient Overseas Container Line, Limited and Orient Overseas Container Line Inc. (Operating as one party).

Filing Party: David F. Smith, Esq.; Cozen O'Connor; 1627 I Street NW., Suite 1100; Washington, DC 20006.

Synopsis: The amendment corrects the name of Orient Overseas Container Line Limited and Orient Overseas Container Line Inc. (Operating as one party).

Agreement No.: 012206.

Title: Industria Armamento Meridionale S.P.A./K-Line Space Charter Agreement.

Parties: Industria Armamento Meridionale S.P.A. (“Inarme”) and Kawasaki Kisen Kaisha, Ltd.

Filing Party: John P. Meade, Esq.; General Counsel; K- Line America, Inc.; 6009 Bethlehem Road; Preston, MD 21655.

Synopsis: The agreement authorizes Inarme to charter space on K-Line vessels in the trade from the United Kingdom to the U.S. East Coast.

Dated: May 3, 2013.
By Order of the Federal Maritime Commission.
Karen V. Gregory,
Secretary.

[FR Doc. 2013-10926 Filed 5-7-13; 8:45 am]

BILLING CODE P